DEPARTMENT OF DEFENSE

Office of the Secretary

Defense Task Force on Sexual Assault in the Military Services

AGENCY: Office of the Assistant Secretary of Defense (Personnel and Readiness); DoD.

ACTION: Notice of open meeting.

SUMMARY: Pursuant to the Federal Advisory Committee Act of 1972 (5 U.S.C., Appendix, as amended), the Sunshine in Government Act of 1976 (5 U.S.C. 522b, as amended), 41 CFR 102-3.140 and 41 CFR 102-3.150, announcement is made of the following committee meeting of the Defense Task Force on Sexual Assault in the Military Services (hereafter referred to as the Task Force).

DATES: October 30, 2008 from 8 a.m. to 5 p.m. Central Standard Time (hereafter referred to as CST).

ADDRESSES: Lincolnshire Marriott Resort, Salon A, 10 Marriott Drive, Lincolnshire, Illinois 60069.

FOR FURTHER INFORMATION CONTACT: Colonel Jackson-Chandler, Designated Federal Officer, Defense Task Force on Sexual Assault in the Military Services, 2850 Eisenhower Avenue, Suite 100, Alexandria, Virginia 22314; Telephone: (703) 325-6640; Fax: 703-325-6710/6711; DSN number 221-6640; e-mail: cora.chandler@wso.whs.mil.

SUPPLEMENTARY INFORMATION: Purpose of the Meeting: The purpose of this open meeting is to obtain and discuss information on the Task Force's congressionally mandated task to examine matters related to sexual assault in the military services through briefings and discussion from the Task Force Sub-committees, Department of Defense (DoD), other subject matter experts, and the general populace.

Agenda

Thursday, October 30, 2008

8 a.m.-8:05 a.m. Welcome

Col Cora Jackson, Chandler, USAF, Executive Director, DTFSAMS

8:05 a.m.-8:15 a.m. Opening Remarks

Dr. Louis Iasiello, DTFSAMS Co-Chair

8:15 a.m.-10 a.m. Qualitative and Quantitative Data Analysis

Dr. Rachel Lipari, Ph.D., Defense Manpower Data Center

10 a.m.-10:15 a.m. Break

10:15 a.m.-12 p.m. Today's Military Culture

Dr. Laura Miller, Rand Corporation

12 p.m.-1 p.m. Lunch

On Your Own

1 p.m.-3 p.m. Task Force Open Discussion

Ms. Lonnie Weiss, Facilitator, Weiss Consulting

3 p.m.-3:15 p.m. Break

3:15 p.m.-4:45 p.m. Public Comment

Ms. Lonnie Weiss, Facilitator, Weiss Consulting

4:45 p.m.-5 p.m. Wrap Up

Ms. Debbie Gray, SAPR Analyst

The Task Force's meeting will be held at Lincolnshire Marriott Resort, Salon A, 10 Marriott Drive, Lincolnshire, Illinois 60069 from 8 a.m. to 5 p.m. CST, Thursday October 30, 2008. The meeting is open to the public pursuant to 5 U.S.C. 552b, as amended, and 41 CFR 102-3.140 through 102-3.165, and subject to the availability of space.

Pursuant to 41 CFR 102-3.105(j), 102-3.140(c), section 10(a)(3) of the Federal Advisory Committee Act, as amended, and subject to the procedures outlined in this notice any member of the public or interested organization may submit a written statement to the Defense Task Force on Sexual Assault in the Military Services membership about the stated agency and/or to give input as to the mission and function of the task force. Though written statements may be submitted at any time for consideration or in response to a stated agenda to a planned meeting, statements must be received in a timely fashion for consideration at a specific meeting.

All written statements intended to be considered for the meeting that is subject to this notice shall be submitted to the Designated Federal Officer for the Defense Task Force on Sexual Assault in the Military Services no later than 5 p.m. Eastern Standard Time (hereafter referred to as EST), October 21, 2008. This individual will review all timely submitted written statements and will provide those statements to the task force membership for consideration.

Persons desiring to make an oral presentation to the committee must notify the Designated Federal Officer no later than 5 p.m. EST, October 21, 2008. Oral presentations by members of the public will be permitted only on October 30, 2008, from 3:15 p.m. until 4:45 p.m. before the full task force. Presentations will be limited to ten (10) minutes each. Number of oral presentations to be made will depend on the number of requests received from members of the public and the time allotted.

Each person desiring to make an oral presentation must provide the Designated Federal Officer for the Defense Task Force on Sexual Assault in the Military Services with one (1) written copy of the presentation by 5 p.m. EST, October 21, 2008 and bring 15 written copies of any material that is intended for distribution at the meeting. Contact information for the Designated Federal Officer is provided in this notice or can be obtained from the GSA's FACA Database— https://www.fido.gov/facadatabase/public.asp.

The Designated Federal Officer, pursuant to 41 CFR § 102-3.150, will announce planned meetings of the Defense Task Force on Sexual Assault in the Military Services. The Designated Federal Officer, at that time, may provide additional guidance on the submission of written statements and/or live testimony that are in response to the stated agenda for the planned meeting in question.

Dated: October 7, 2008.
Patricia L. Toppings,
OSD Federal Register Liaison Officer, Department of Defense.

[FR Doc. E8-24395 Filed 10-14-08; 8:45 am]

BILLING CODE 5001-06-P